CORPORATION FOR NATIONAL AND COMMUNITY SERVICE

45 CFR Parts 2550 and 2552

RIN 3045-AA50

Serve America Act Amendments to the National and Community Service Act of 1990 and the Domestic Volunteer Service Act of 1973

AGENCY: Corporation for National and Community Service.

ACTION: Interim final rule with request for comments; correction.

SUMMARY: The Corporation for National and Community Service (the Corporation) is correcting an interim final rule implementing time-sensitive changes required by the Serve America Act to take effect on October 1, 2009, that appeared in the Federal Register of September 10, 2009. That document included amendments to two incorrectly listed paragraphs in two section, and inadvertently quoted incorrect language from another. This document corrects those errors.

DATES: Effective October 1, 2009.

FOR FURTHER INFORMATION CONTACT: Amy Borgstrom, Docket Manager, Corporation for National and Community Service, (202) 606-6930, TDD (202) 606-3472. Persons with visual impairments may request this document in an alternate format.

SUPPLEMENTARY INFORMATION: On September 10, 2009 (74 FR 46495), the Corporation published an interim final rule which included amendments to two incorrectly listed paragraphs in 45 CFR 2550.50 and 2550.80, and inadvertently quoted incorrect language from 45 CFR 2552.82. This document corrects the interim final rule by revising the instructions for 45 CFR 2550.50, 2550.80, and 2552.82.

In FR Doc. 2009-21671, appearing on page 46495 in the Federal Register of Thursday, September 10, 2009, the following corrections are made:

§ 2550.50 [Corrected]

1. On page 46507, in the second column,, in instructions 38a, 38b and 38c, remove “paragraph (a)” and add “paragraph (b)” in its place.

2. On page 46057, in the second column, after the section heading for § 2550.50, add five asterisks below the section heading and remove the paragraph designation “(a)” and add the paragraph designation “(b)” in its place.

§ 2550.80 [Corrected]

3. On page 46057, in the second column, in instruction 39d, remove “paragraph (i)” and add “paragraph (m)” in its place.

4. On page 46057, in the third column, in the 36th line, remove the paragraph designation “(i)” and add the paragraph designation “(m)” in its place.

§ 2552.82 [Corrected]

5. On page 46509, in the first column, in instruction 55c, remove “mentally retarded child” and add “mentally retarded individual” in its place.

Dated: September 21, 2009.
Frank R. Trinity,
General Counsel.

[FR Doc. E9-23248 Filed 9-24-09; 8:45 am]

BILLING CODE P